SECURITIES AND EXCHANGE COMMISSION

[Release No. 34-94875; File No. SR-PEARL-2022-11]

Self-Regulatory Organizations; MIAX PEARL LLC; Notice of Withdrawal of Proposed Rule Change To Amend the MIAX PEARL Options Fee Schedule To Increase Certain Connectivity Fees

May 9, 2022.

On April 1, 2022, MIAX PEARL LLC (“MIAX Pearl” or “Exchange”) filed with the Securities and Exchange Commission (“Commission”), pursuant to Section 19(b)(1) of the Securities Exchange Act of 1934 (“Act”),¹ and Rule 19b-4 thereunder,² a proposed rule change to amend the MIAX Pearl Options Fee Schedule to increase certain connectivity fees.

¹ 15 U.S.C. 78s(b)(1).

² 17 CFR 240.19b-4.

The proposed rule change was immediately effective upon filing with the Commission pursuant to Section 19(b)(3)(A) of the Act.³ On April 20, 2022, the proposed rule change was published for comment in the Federal Register and, pursuant to Section 19(b)(3)(C) of the Act,⁴ the Commission: (1) Temporarily suspended the proposed rule change; and (2) instituted proceedings under Section 19(b)(2)(B) of the Act ⁵ to determine whether to approve or disapprove the proposed rule change.⁶ On May 2, 2022, the Exchange withdrew the proposed rule change (SR-PEARL-2022-11).

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ 15 U.S.C. 78s(b)(3)(C).

⁵ 15 U.S.C. 78s(b)(2)(B).

⁶ See Securities Exchange Act Release No. 94721 (April 14, 2022), 87 FR 23573.

For the Commission, by the Division of Trading and Markets, pursuant to delegated authority.⁷
⁷ 17 CFR 200.30-3(a)(12).
J. Matthew DeLesDernier,
Assistant Secretary.

[FR Doc. 2022-10259 Filed 5-12-22; 8:45 am]

BILLING CODE 8011-01-P